DEPARTMENT OF JUSTICE

Antitrust Division

Notice Pursuant to the National Cooperative Research and Production Act of 1993—Petroleum Industry Data Exchange, Inc.

Notice is hereby given that, on March 21, 2011, pursuant to Section 6(a) of the National Cooperative Research and Production Act of 1993, 15 U.S.C. 4301 et seq. (“the Act”), Petroleum Industry Data Exchange, Inc. (“PIDX”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Petroleum Industry Data Exchange, Inc., Houston, TX. The nature and scope of PIDX's standards development activities are: to develop and publish technology, information and business process standards that allow the implementation of electronic commerce in the energy industry on a worldwide basis.

Patricia A. Brink,
Director of Civil Enforcement, Antitrust Division.

[FR Doc. 2011-10122 Filed 4-27-11; 8:45 am]

BILLING CODE 4410-11-M